DEPARTMENT OF HOMELAND SECURITY

Transportation Security Administration

Extension of Agency Information Collection Activity Under OMB Review: Transportation Security Officer (TSO) Medical Questionnaire

AGENCY: Transportation Security Administration, DHS.

ACTION: 30-Day notice.

SUMMARY: This notice announces that the Transportation Security Administration (TSA) has forwarded the Information Collection Request (ICR), OMB control number 1652-0032, abstracted below to the Office of Management and Budget (OMB) for review and approval of an extension of the currently approved collection under the Paperwork Reduction Act. The ICR describes the nature of the information collection and its expected burden. TSA published a Federal Register notice, with a 60-day comment period soliciting comments, of the following collection of information on November 25, 2015, 80 FR 73806. The collection involves using a questionnaire to collect medical information from candidates for the job of Transportation Security Officer (TSO) to ensure their qualifications to perform TSO duties pursuant to sec. 111 of the Aviation and Transportation Security Act (ATSA).

DATES: Send your comments by April 18, 2016. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Christina Walsh, TSA Paperwork Reduction Act (PRA) Officer, Office of Information Technology (OIT), TSA-40, Transportation Security Administration, 601 South 12th Street, Arlington, VA 20598-6040; telephone (571) 227-2062; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Transportation Security Officer (TSO) Medical Questionnaire.

Type of Request: Extension of a currently approved collection.

OMB Control Number: 1652-0032.

Forms(s): Transportation Security Officer Medical Questionnaire, Release of Information Form, Further Evaluation Instruction Form, Cancer Further Evaluation, Cardiovascular Further Evaluation, Diabetes Further Evaluation, Drug or Alcohol Use Further Evaluation, General Medical Further Evaluation, Hearing Further Evaluation, Hepatitis Further Evaluation, Hernia Further Evaluation, Implantable Device Further Evaluation, Lift Assessment Further Evaluation, Medical Evaluation Form, Mental Health Further Evaluation Form, Orthopedic Further Evaluation, Palmar Sensation Further Evaluation, Respiratory Further Evaluation, Seizure Further Evaluation, Sleep Disorder Further Evaluation, Tuberculosis Further Evaluation, Vision Further Evaluation, and Vital Signs Further Evaluation.

Affected Public: Applicants for employment as a Transportation Security Officer with TSA.

Abstract: TSA currently collects relevant medical information from Transportation Security Officer (TSO) candidates for the purpose of assessing whether the candidates meet the medical qualification standards the agency has established pursuant to the Aviation and Transportation Security Act (ATSA) (49 U.S.C. 44935). TSA collects this information through a medical questionnaire completed by TSO candidates and, in certain cases, further evaluation forms completed by TSO candidates' health care providers. The medical questionnaire and further evaluation forms evaluate a candidate's physical and medical qualifications to be a TSO, including visual and aural acuity, physical coordination, and motor skills.

Total Number of Respondents: 30,094.¹

¹ The respondents' amount has been adjusted from the reported number in the 60-day notice of 58,032 to correct an error that resulted from double counting. The burden hours have also changed from 16,477 to 16,489 due to the rounding of numbers.

Estimated Annual Burden Hours: 16,489 hours.

Dated: March 10, 2016.
Christina Walsh,
TSA Paperwork Reduction Act Officer, Office of Information Technology.

[FR Doc. 2016-05980 Filed 3-16-16; 8:45 am]

BILLING CODE 9110-05-P